SMALL BUSINESS ADMINISTRATION

[Disaster Declaration #17713 and #17714; SOUTH CAROLINA Disaster Number SC-00082]

Presidential Declaration Amendment of a Major Disaster for Public Assistance Only for the State of South Carolina

AGENCY: Small Business Administration.

ACTION: Amendment 1.

SUMMARY: This is an amendment of the Presidential declaration of a major disaster for Public Assistance Only for the State of South Carolina (FEMA-4677-DR), dated 11/21/2022.

Incident: Hurricane Ian.

Incident Period: 09/25/2022 through 10/04/2022.

DATES: Issued on 01/18/2023.

Physical Loan Application Deadline Date: Filing Period for Florence County ends 03/20/2023.

Economic Injury (EIDL) Loan Application Deadline Date: Filing Period for Florence County ends 10/18/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of South Carolina, dated 11/21/2022, is hereby amended to include Florence County. Please contact the SBA disaster assistance customer service center by email at disastercustomerservice@sba.gov or by phone at 1-800-659-2955 to request an application Applications for physical damages may be filed until 03/20/2023 and applications for economic injury may be file until 10/18/2023.

All other information in the original declaration remains unchanged.

(Catalog of Federal Domestic Assistance Number 59008)

Rafaela Monchek,
Acting Associate Administrator for Disaster Recovery and Resilience.

[FR Doc. 2023-01610 Filed 1-26-23; 8:45 am]

BILLING CODE 8026-09-P